DEPARTMENT OF HOUSING AND URBAN DEVELOPMENT

[Docket No. FR-4529-N-02]

Notice of Proposed Information Collection: Comment Request

AGENCY: Office of General Counsel, HUD.

ACTION: Notice.

SUMMARY: The proposed information collection requirement described below will be submitted to the Office of Management and Budget (OMB) for review, as required by the Paperwork Reduction Act. The Department is soliciting public comments on the subject proposal.

DATES: Comments Due Date: June 11, 2001.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410.

FOR FURTHER INFORMATION CONTACT: Linda Katz, Office of Assistant General Counsel for New England, Department of Housing and Urban Development, 60 Causeway Street, Suite 100, Boston, MA 02122, telephone (617) 996-8250 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Information request to owners of HUD-assisted multifamily housing in Boston, pursuant to section III.A of consent Decree in N.A.A.C.P., Boston Chapter v. Cuomo.

OMB Control Number, if applicable: 2510-0008.

Description of the need for the information and proposed use: Pursuant to section III.A of the Consent Decree in NAACP, Boston Chapter v. Cuomo, as modified, HUD is required to submit annual reports to the Court setting forth the current facial makeup, family composition, and vacancy rate of HUD-assisted multifamily rental housing located in the city of Boston. The information is required to prepare reports to determine if there has been any progress toward achieving the goal of the Decree.

Agency form numbers, if applicable: None.

Estimation of the total numbers of hours needed to prepare the information collection including number of respondents, frequency of response, and hours of response:

Respondents: 213.

Frequency of response: once a year.

Hours of response: one hour.

Total burden hours at one hour per response: 213.

Status of the proposed information collection: This is an reinstatement with change of a previously approved collection.

Authority: The Paperwork Reduction Act of 1995, 44 U.S.C., Chapter 35, as amended.

Dated: April 4, 2001.
George L. Weidenfeller,
Deputy Assistant General Counsel for Housing Finance and Operations.

[FR Doc. 01-8847 Filed 4-10-01; 8:45 am]

BILLING CODE 4210-01-M